DEPARTMENT OF HOMELAND SECURITY

[Docket No. NCS-2006-0001]

Preparedness Directorate; National Security Telecommunications Advisory Committee

AGENCY: Preparedness Directorate, DHS.

ACTION: Notice of partially closed advisory committee meeting.

SUMMARY: The President's National Security Telecommunications Advisory Committee (NSTAC) will meet in a partially closed session.

DATES: Tuesday, January 31, 2006, from 2 p.m. until 3 p.m.

ADDRESSES: The meeting will take place by teleconference. For access to the conference bridge and meeting materials, contact Mr. William Fuller at (703) 235-5521, or by e-mail at William.C.Fuller@dhs.gov by 5 p.m. on Friday, January 27, 2006. If you desire to submit comments, they must be submitted by February 6, 2006. Comments must be identified by NCS-2006-0001 and may be submitted by one of the following methods:

• Federal eRulemaking Portal: http://www.regulations.gov. Follow the instructions for submitting comments.

• E-mail: NSTAC@dhs.gov. Include docket number in the subject line of the message.

• Mail: Office of the Manager, National Communications System (N5), Department of Homeland Security, Washington, DC 20529.

Instructions: All submissions received must include the words “Department of Homeland Security” and NCS-2006-0001, the docket number for this action. Comments received will be posted without alteration at http://www.regulations.gov, including any personal information provided.

Docket: For access to the docket to read background documents or comments received by the NSTAC, go to http://www.regulations.gov.

FOR FURTHER INFORMATION CONTACT: Ms. Alberta Ross, Industry Operations Branch at (703) 235-5526, e-mail: Alberta.Ross@dhs.gov or write the Deputy Manager, National Communications System, Department of Homeland Security, IP/NCS/N5.

SUPPLEMENTARY INFORMATION: The NSTAC advises the President of the United States on issues and problems related to implementing national security and emergency preparedness (NS/EP) telecommunications policy. Notice of this meeting and the partial closure thereof is given under the Federal Advisory Committee Act (FACA), Public Law 92-463, as amended (5 U.S.C. App.1 et seq.).

At the upcoming meeting, between 2 p.m. and 2:45 p.m., the members will review and discuss the Near Term Report from the NSTAC Telecommunications and Electric Power Interdependency Task Force (TEPITF), Legislative and Regulatory Task Force (LRTF) Report and Letter and the results of the December 8, 2005, NSTAC Working Group Meeting on hurricane Katrina. This portion of the meeting will be open to the public.

Following this discussion, the committee will discuss and vote on the NSTAC Cellular Shutdown paper which outlines the process to follow after an order has been issued for shutting down cellular service. This portion of the meeting will be closed to the public.

Basis for Closure: Following the NSTAC's October 13, 2005 Conference Call on National Security and Emergency Preparedness, the NSTAC Cellular Shutdown Working Group drafted a white paper outlining considerations when ordering a shutdown and a process to be followed after an order has been issued for shutting down cellular service. At the upcoming meeting, the NSTAC will discuss and vote on the Cellular Services Shutdown Paper which outlines the above process.

The discussion and vote on the Cellular Services Shutdown Paper will occur between 2:45 p.m. and 3 p.m. and will involve sensitive information. Pursuant to Section 10(d) of the Federal Advisory Committee Act, Public Law 92-463, as amended (5 U.S.C. App. 1 et seq.), the Department has determined that this discussion will concern matters which, if disclosed, would be likely to frustrate significantly the implementation of a proposed agency action. Accordingly, the relevant portion of this meeting will be closed to the public pursuant to the authority set forth in 5 U.S.C. 552b(c)(9)(B).

Dated: January 6, 2006.
Peter M. Fonash,
Deputy Manager National Communications System.

[FR Doc. E6-349 Filed 1-12-06; 8:45 am]

BILLING CODE 4410-10-P